DEPARTMENT OF HEALTH AND HUMAN SERVICES

Office of the Secretary

[Document Identifier: OS-0990-New]

Agency Information Collection Activities: Proposed Collection; Comment Request

AGENCY: Office of the Secretary, Office of Public Health and Science, Office on Women's Health.

In compliance with the requirement of section 3506(c)(2)(A) of the Paperwork Reduction Act of 1995, the Office of the Secretary (OS), Department of Health and Human Services, is publishing the following summary of proposed collections for public comment.

Type of Information Collection Request: New collection, regular.

Title of Information Collection: Evaluation of HIV Prevention Program in Women.

Form/OMB No.: OS-0990-New.

This notice replaces a previous notice for the same information collection published on March 13, 2005. We are republishing this notice in order to provide more accurate information about the numbers of clients serviced by funded programs. The two primary differences between this notice and the previously published notice are the increase in burden from 147.5 hours to 1,635 hours and the number of respondents from 218 to 552. This increase is caused by data collection forms associated with only one type of respondent, program staff. Respondents are required to complete these forms for each person utilizing their service. The enhanced information regarding the number of clients served increased the burden. The new burden more accurately reflects the number of responses per respondent required to conduct the pre-post methodology of this evaluation of knowledge and risk behaviors.

Use: The Office on Women's Health (OWH) has instituted an HIV Prevention Program in Women. As part of their evaluation of the HIV Prevention Program for Women, the OWH is seeking a new clearance to conduct data collection activities associated with the evaluation of funded programs. The evaluation is designed to determine best practices and clearly define the gender-centered approach to HIV/AIDS prevention. The HIV/AIDS programs to be evaluated are the Model Mentorship, Incarcerated/Newly Released Women and HIV prevention in the rural south. The program consists of individual community-based organizations from across the country. The evaluation results will assess how successful the OWH program is at meeting its overarching goals: to increase HIV prevention knowledge and reduce the risk of contracting HIV among young minority women.

Awarded contractors participating in the HIV Prevention Program in Women and stakeholders in the HIV Prevention service area will provide data that are necessary to conduct the evaluation. Stakeholders will provide data on (1) the number of women served with HIV/AIDS; (2) the network of services (and programs) available in those communities, including programs offered by their particular center or agency; (3) the challenges and barriers to service implementation faced by providers; (4) the unique and general challenges and barriers to service faced by women with HIV/AIDS; (5) the general impression of perceived need for services (as opposed to identified need); and (6) the sources of funding for their HIV/AIDS prevention services in general and those for women in particular. Awarded contractors will provide data on the number of women served, client demographics, type and number of services provided, client outcomes, client utilization, and service capacity. Clients of awarded contractors will also participate in a client utilization survey. The data provided will be utilized to evaluate the overall performance of the HIV Prevention Program in Women. This information will also be used to develop a comprehensive framework from which to analyze the relationship between surveillance data and HIV prevention service gap and to carry out a comparative analysis to determine best practices for HIV prevention among women.

Frequency: Reporting, quarterly.

Affected Public: Individuals or households, business or other for-profit, not-for-profit institutions.

Annual Number of Respondents: 552.

Total Annual Responses: 5,918.

Average Burden Per Response: 1 hour.

Total Annual Hours: 1,635.

SUPPLEMENTARY INFORMATION: This is a new data collection.

Respondent type | Activity | Number of respondents | Responses/respondent | Time (hr)/ response | Total burden | Total cost to respondent
Program staff | HIV/AIDS Knowledge Form (pre and post) | 6 | 240 | 0.25 | 360
| HIV/AIDS Risk Behavior Form | 6 | 240 | 0.33 | 475
| Encounter Form | 14 | 120 | 0.25 | 420
| Client Background Form | 6 | 120 | 0.17 | 122
| Process Evaluation Form-Staff | 18 | 2 | 1.00 | 36
|  |  |  |  |  | $0.00
Clients of Funded programs | Client Utilization Form (RS/INR) | 210 | 1 | 0.33 | 70
| Recruiting Script for Utilization survey | 300 | 1 | 0.17 | 51
|  |  |  |  |  | $0.00
Directors, Funded programs | Protégé Utilization Form | 8 | 1 | 0.50 | 4
| Organizational Assessment Questionnaire (pre and post) | 12 | 2 | 1.50 | 36
| Process Evaluation Form-Director | 18 | 2 | 1.00 | 36
Stakeholders | Stakeholder Survey | 24 | 1 | 1 | 24 | $1,200.00
Total |  | 552 |  |  | 1,635 | $1,200.00

To obtain copies of the supporting statement and any related forms for the proposed paperwork collections referenced above, access the HHS Web site address at http://www.hhs.gov/oirm/infocollect/pending/ or e-mail your request, including your address, phone number, OMB number, and OS document identifier, to naomi.cook@hhs.gov, or call the Reports Clearance Office on (202) 690-6162. Written comments and recommendations for the proposed information collections must be mailed within 30 days of this notice directly to the Desk Officer at the address below: OMB Desk Officer: John Kraemer, OMB Human Resources and Housing Branch, Attention: (OMB #0990-NEW), New Executive Office Building, Room 10235, Washington DC 20503.

Dated: May 20, 2005.
Robert E. Polson,
Office of the Secretary, Paperwork Reduction Act Reports Clearance Officer.

[FR Doc. 05-10980 Filed 6-1-05; 8:45 am]

BILLING CODE 4168-17-U